ENVIRONMENTAL PROTECTION AGENCY

[FRL-7515-9]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or email at auby.susan@epa.gov and please refer to the appropriate EPA Information Collection Request (ICR) Number.

SUPPLEMENTARY INFORMATION:

OMB Responses to Agency Clearance Requests

OMB Approvals

EPA ICR No. 0916.10; Final Consolidated Emissions Reporting Rule; was approved 05/23/2003; in 40 CFR 51.321, 51.322 and 51.323; OMB Number 2060-0088; expires 05/31/2006. The approval of this ICR activates the point source reporting requirements for PM2.5 and NH3 found in the Consolidated Emissions Reporting Rule § 51.30(e) (67 FR 39602, June 10, 2002) and establishes the applicable reporting deadline. As a result of this action, States must commence reporting PM2.5 and NH3 emissions from point sources beginning with the 2002 inventory year with the report due on June 1, 2004.

EPA ICR No. 0794.10; Notification of Substantial Risk of Injury to Health and the Environment under TSCA Section 8(e); was approved 06/04/2003; OMB Number 2070-0046; expires 06/30/2006.

EPA ICR No. 1633.13; Acid Rain Program under Title IV of the CAA Amendments of 1990; was approved 06/05/2003; in 40 CFR parts 72, 73, subparts C-G and parts 74-78; OMB Number 2060-0258; expires 06/30/2006.

EPA ICR No. 1899.02; New Source Performance Standards (NSPS), Emission Guidelines for Hospital/Medical/Infections Waste Incinerators (HMIWI); was approved 05/30/2003, in 40 CFR part 60, subpart Ce; OMB Number 2060-0422; expires 05/31/2006.

EPA ICR No. 1993.01; Evaluations of Innovative Pilot Project Innovations; was approved 05/30/2003; OMB Number 2010-0036; expires 05/31/2006.

EPA ICR No. 2110.01; Laboratory Analytical Capability and Capacity; was approved 05/23/2003; OMB Number 2050-0002; expires 11/30/2003.

EPA ICR No. 1995.02; NESHAP for Coke Oven: Pushing, Quenching, and Battery Stacks (Final Rule); was approved 05/15/2003; in 40 CFR part 63, subpart CCCCC; OMB Number 2060-0521; expires 05/31/2006.

EPA ICR No. 2071.02; NESHAP for Printing, Coating, and Dyeing of Fabrics and Other Textiles Source Category (Final Rule); was approved 05/15/2003; in 40 CFR part 63, subpart (OOOO); OMB Number 2060-0522; expires 05/31/2006.

EPA ICR No. 2022.02; NESHAP for Brick and Structural Clay Manufacturing; was approved 05/15/2003; in 40 CFR part 63, subpart JJJJJ; OMB Number 2060-0508; expires 05/31/2006.

EPA ICR No. 2029.02; NESHAP for Asphalt Processing and Asphalt Roofing Manufacturing (Final Rule); was approved 05/15/2003; in 40 CFR part 63, subpart LLLLL; OMB Number 2060-0520; expires 05/31/2006.

EPA ICR No. 1952.02; NESHAP for Metal Furniture Surface Coating (Final Rule); was approved 05/15/2003; in 40 CFR part 63; subpart RRRR; OMB Number 2060-0518; expires 05/31/2006.

EPA ICR No. 2027.02; NESHAP for Flexible Polyurethane Foam Fabrication (Final Rule); was approved 05/15/2003; in 40 CFR part 63, subpart MMMMM; OMB Number 2060-0516; expires 05/31/2006.

EPA ICR No. 2040.02; NESHAP for Refractory Products Manufacturing (Final Rule); was approved 05/09/2003; in 40 CFR part 63, subpart SSSSS; OMB Number 2060-0515; expires 05/31/2006.

EPA ICR No. 1951.02; NESHAP for Paper and Other Web Coating (Final Rule); was approved 05/09/2003; in 40 CFR part 63, subpart JJJJ; OMB Number 2060-0511; expires 05/31/2006.

EPA ICR No. 1976.02; NESHAP for reinforced Plastic Composites Production (Final Rule); was approved 05/09/2003; in 40 CFR part 63, subpart WWWW; OMB Number 2060-0509; expires 05/31/2006.

EPA ICR No. 1901.02; Emission Guidelines Reporting and Recordkeeping Requirements for Existing Small Municipal Waste Combustion (MWC) Units; was approved 06/04/2003; in 40 CFR part 60, subpart BBBB; OMB Number 2060-0424; expires 06/30/2006.

EPA ICR No. 2073.01; Reporting Requirements for a Small Refiner Applying for a Revised Sulfur Cap Standard; was approved 06/04/2003; in 40 CFR parts 80 and 86; OMB Number 2060-0497; expires 06/30/2006.

Comment Filed

EPA ICR No. 2098.01; NESHAP for Primary Magnesium Refining (Proposed Rule); on 05/15/2003 OMB filed a comment.

EPA ICR No. 1984.01; NESHAP for Plywood and Composite Wood Products Manufacturing Plants (Proposed Rule); on 05/09/2003 OMB filed a comment.

EPA ICR No. 2028.01; NESHAP for Hazardous Air Pollutants for Industrial, Commercial, and Institutional Boilers and Process Heaters (Proposed Rule); in 40 CFR part 63, subpart DDDDD; on 05/15/2003 OMB filed a comment.

EPA ICR No. 2034.01; NESHAP for Surface Coating of Wood Building Products (Proposed Rule); on 05/09/2003 OMB filed a comment.

Dated: June 12, 2003.
Doreen Sterling,
Acting Director, Collection Strategies Division.

[FR Doc. 03-15664 Filed 6-19-03; 8:45 am]

BILLING CODE 6560-50-P